FEDERAL COMMUNICATIONS COMMISSION

47 CFR Part 51

[CC Docket No. 96-98; FCC 99-238]

Revision of the Commission's Rules Specifying the Portions of the Nation's Local Telephone Networks that Incumbent Local Telephone Companies Must Make Available to Competitors

AGENCY: Federal Communications Commission.

ACTION: Final rule; correction.

SUMMARY: The Federal Communications Commission published in the Federal Register of January 18, 2000 (65 FR 2542) a report and order and final rule, 47 CFR 51.319, specifying which portions of their telephone networks incumbent local exchange carriers must make available to competitive telecommunications carriers as unbundled network elements. The document, as published, inadvertently removed a portion of 52.319 that the Commission added to the rule previously on January 10, 2000 (65 FR 1331) addressing the obligation of incumbent local exchange carriers to make available the high frequency portion of the local loop as a new network element. The purpose of this correction is to add this portion of the rule back into 47 CFR 51.319.

DATES: Effective on April 11, 2000.

FOR FURTHER INFORMATION CONTACT: Jodie Donovan-May, Policy and Program Planning Division, Common Carrier Bureau, at (202) 418-1580.

SUPPLEMENTARY INFORMATION: The Federal Communications Commission published a report and order and final rule in the Federal Register of January 18, 2000 (65 FR 2542). As published, this final rule inadvertently removed paragraph (h). The Commission had added paragraph (h) to § 51.310 in a report and order and final rule published in the Federal Register of January 10, 2000 (65 FR 1331). This correction adds paragraph (h) back into the Commission's final rule.

Specifically, in rule FR Doc. 00-1036 published on January 18, 2000 (65 FR 2542), make the following correction:

1. On page 2554, in the third column, in § 51.319, paragraph (h) is added to read as follows:

§ 51.319 Specific unbundling requirements.

* * * * *

(h) High frequency portion of the loop. (1) The high frequency portion of the loop network element is defined as the frequency range above the voiceband on a copper loop facility that is being used to carry analog circuit-switched voiceband transmissions.

(2) An incumbent LEC shall provide nondiscriminatory access in accordance with § 51.311 of these rules and section 251(c)(3) of the Act to the high frequency portion of a loop to any requesting telecommunications carrier for the provision of a telecommunications service conforming with § 51.230 of these rules.

(3) An incumbent LEC shall only provide a requesting carrier with access to the high frequency portion of the loop if the incumbent LEC is providing, and continues to provide, analog circuit-switched voiceband services on the particular loop for which the requesting carrier seeks access.

(4) Control of the loop and splitter functionality. In situations where a requesting carrier is obtaining access to the high frequency portion of the loop, the incumbent LEC may maintain control over the loop and splitter equipment and functions, and shall provide to requesting carriers loop and splitter functionality that is compatible with any transmission technology that the requesting carrier seeks to deploy using the high frequency portion of the loop, as defined in this subsection, provided that such transmission technology is presumed to be deployable pursuant to § 51.230.

(5) Loop conditioning. (i) An incumbent LEC must condition loops to enable requesting carriers to access the high frequency portion of the loop spectrum, in accordance with §§ 51.319(a)(3), and 51.319(h)(1). If the incumbent LEC seeks compensation from the requesting carrier for line conditioning, the requesting carrier has the option of refusing, in whole, or in part, to have the line conditioned, and a requesting carrier's refusal of some or all aspects of line conditioning will not diminish its right of access to the high frequency portion of the loop

(ii) Where conditioning the loop will significantly degrade, as defined in § 51.233, the voiceband services that the incumbent LEC is currently providing over that loop, the incumbent LEC must either:

(A) Locate another loop that has been or can be conditioned, migrate the incumbent LEC's voiceband service to that loop, and provide the requesting carrier with access to the high frequency portion of the alternative loop; or

(B) Make a showing to the relevant state commission that the original loop cannot be conditioned without significantly degrading voiceband services on that loop, as defined in § 51.233, and that there is no adjacent or alternative loop available that can be conditioned or to which the customer's voiceband service can be moved to enable line sharing.

(iii) If the relevant state commission concludes that a loop cannot be conditioned without significantly degrading the voiceband service, the incumbent LEC cannot then or subsequently condition that loop to provide advanced services to its own customers without first making available to any requesting carrier the high frequency portion of the newly-conditioned loop.

(6) Digital loop carrier systems. Incumbent LECs must provide to requesting carriers unbundled access to the high frequency portion of the loop at the remote terminal as well as the central office, pursuant to § 51.319(a)(2) and § 51.319(h)(1).

(7) Maintenance, repair, and testing. (i) Incumbent LECs must provide, on a nondiscriminatory basis, physical loop test access points to requesting carriers at the splitter, through a cross-connection to the competitor's collocation space, or through a standardized interface, such as an intermediate distribution frame or a test access server, for the purposes of loop testing, maintenance, and repair activities.

(ii) An incumbent seeking to utilize an alternative physical access methodology may request approval to do so from the relevant state commission, but must show that the proposed alternative method is reasonable, nondiscriminatory, and will not disadvantage a requesting carrier's ability to perform loop or service testing maintenance or repair.

Federal Communications Commission.
Magalie Roman Salas,
Secretary.

[FR Doc. 00-8843 Filed 4-10-00; 8:45 am]

BILLING CODE 6712-01-M